DEPARTMENT OF DEFENSE

Office of the Secretary

Defense Business Board; Notice of Advisory Committee Meeting

AGENCY: Department of Defense, DoD.

ACTION: Notice of advisory committee meeting.

SUMMARY: The Defense Business Board (DBB) will meet in open session on Thursday, July 15, 2004, at the Pentagon, Washington, DC from 0815 until 1000. The mission of the DBB is to advise the Senior Executive Council (SEC) and the Secretary of Defense on effective strategies for implementation of best business practices of interest to the Department of Defense. At this meeting, the Board's Acquisition, Human Resources, and Financial Management related task groups will deliberate on their preliminary, findings and recommendations related to tasks assigned earlier this year.

DATES: Thursday, July 15, 2004, 0815 to 1000 hrs.

FOR FURTHER INFORMATION CONTACT: Members of the public who wish to attend the meeting must contact the Defense Business Board no later than Thursday, July 8 for further information about admission as seating is limited. Additionally, those who wish to make oral comments or deliver written comments should also request to be scheduled, and submit a written text of the comments by Thursday, July 8 to allow time for distribution to the Board members prior to the meeting. Individual oral comments will be limited to five minutes, with the total oral comment period not exceeding thirty-minutes.

The DBB may be contacted at: Defense Business Board, 1100 Defense Pentagon, Room 2E314, Washington, DC 20301-1100, via e-mail at DBB@osd.pentagon.mil, or via phone at (703) 614-7085.

Dated: June 23, 2004.
L.M. Bynum,
Alternative OSD Federal Register Liaison Officer, Department of Defense.

[FR Doc. 04-14649 Filed 6-28-04; 8:45 am]

BILLING CODE 5001-06-M